DEPARTMENT OF TRANSPORTATION

Coast Guard

33 CFR Part 165

[CGD09-01-140]

RIN 2115-AA97

Security Zone; Sault Locks, St. Mary's River, Sault Ste. Marie, MI

AGENCY: Coast Guard, DOT.

ACTION: Temporary final rule.

SUMMARY: The Coast Guard is establishing a security zone around the Sault Locks in Sault Ste. Marie, Michigan. This regulation is necessary to provide additional protection for the locks due to terrorist attacks that occurred on September 11, 2001. The security zone is intended to restrict vessel traffic movement through and around the Sault Locks.

DATES: This rule is effective from 1 p.m. October 11, 2001 until 1 p.m. June 15, 2002.

ADDRESSES: Comments and material received from the public, as well as documents indicated in this preamble as being available in the docket, are part of docket [CGD09-01-140] and are available for inspection or copying at U.S. Coast Guard Marine Safety Office Sault Ste. Marie, 337 Water St., Sault Ste. Marie, MI 49783, between 7:30 a.m. and 4 p.m., Monday through Friday, except Federal holidays.

FOR FURTHER INFORMATION CONTACT: LCDR Joe Cost, Chief, Coast Guard Marine Safety Office Sault Ste. Marie, MI, (906) 635-3220.

SUPPLEMENTARY INFORMATION:

Regulatory Information

We did not publish a notice of proposed rulemaking (NPRM) for this regulation. The Coast Guard for good cause finds that, under 5 U.S.C. 553(b)(B) and (d)(3), notice and public comment on the rule before the effective date of the rule and advance publication are impracticable and contrary to public interest. Immediate action is necessary to ensure the safety of life, property, the environment, as well as safe passage for vessels transiting this area. The conduct of notice and comment rulemaking proceedings and compliance with advance notice requirements present significant public security and safety concerns that outweigh the public interest in compliance with these provisions. Public rulemaking proceedings and advance publication could provoke consequences that would pose a risk of harm to the public, military personnel, and law enforcement personnel charged with enforcement of the security zone. This regulation is geographically limited so that it meets the needs of national security with a minimal burden on the public.

Background and Purpose

The security zone is established to provide additional protection of the locks in response to the September 11, 2001 terrorist attacks on the World Trade Center buildings in New York City and on the Pentagon in Arlington, Virginia. The security zone is intended to restrict vessel traffic movement through and around the Sault Locks. All persons and vessels shall comply with the instructions of the Captain of the Port Sault Ste. Marie or the designated on scene patrol personnel. Entry into, transiting, or anchoring within the security zone is prohibited unless authorized by the Captain of the Port Sault Ste. Marie or his designated on scene representative. The Captain of the Port Sault Ste. Marie may be contacted via the VTS at telephone number (906) 635-3232 or on VHF channel 12 (156.6 MHz) or VHF channel 14 (156.7 MHz).

Regulatory Evaluation

This temporary rule is not a significant regulatory action under section 3(f) of Executive Order 12866 and does not require an assessment of potential costs and benefits under section 6(a)(3) of that order. It has not been reviewed by the Office of Management and Budget under that order. It is not significant under the regulatory policies and procedures of the Department of Transportation (DOT) (44 FR 11040; February 26, 1979).

The security zone covers a vital portion of the St. Mary's River transited by commercial and recreational vessels and is being created to protect the Sault locks. The Coast Guard does foresee minor interruption to the passage of vessels through this area. While vessels will need authorization to transit the zone, the Coast Guard expects minimal interference with or delay in their passage.

Small Entities

Under the Regulatory Flexibility Act (5 U.S.C. 601 et seq.) the Coast Guard considered whether this rule will have a significant impact on a substantial number of small businesses and not-for-profit organizations that are not dominant in their respective fields, and government jurisdictions with populations less than 50,000.

The Coast Guard certifies under section 605(b) that this temporary final rule will not have a significant economic impact on a substantial number of small entities.

This rule will affect the following entities, some of which may be small entities: The owners or operators of vessels intending to transit the St. Mary's River up-river, between, and down-river of the Sault Locks immediately until terminated by COTP Sault Ste. Marie.

This security zone will not have a significant economic impact on a substantial number of small entities for the following reasons. Vessel traffic will be allowed to pass through the zone with the permission of the COTP or his designated on scene representative.

Assistance for Small Entities

Under section 213(a) of the small Business Regulatory Enforcement Fairness Act of 1996 (Public Law 104-121), we offer to assist small entities in understanding this rule so that they can better evaluate its effectiveness and participate in the rulemaking process. If your small business or organization is affected by this rule, and you have questions concerning its provisions or options for compliance, please contact the office listed in ADDRESSES in this preamble.

Small businesses may send comments on the actions of Federal employees who enforce, or otherwise determine compliance with, federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule contains no information collection requirements under the Paperwork Reduction Act (44 U.S.C. 3501 et seq.).

Federalism

We have analyzed this rule under Executive Order 13132, Federalism, and have determined that this rule does not have implications for Federalism under that order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Environment

The Coast Guard considered the environmental impact of this regulation and concluded that, under figure 2-1, paragraph (34)(g) of Commandant Instruction M16475.1C, it is categorically excluded from further environmental documentation. A “Categorical Exclusion Determination” is available in the docket for inspection or copying where indicated under ADDRESSES.

List of Subjects in 33 CFR Part 165

Harbors, Marine safety, Navigation (water), Reporting and recordkeeping requirements, Security measures, Vessels, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. A new temporary § 165.T09-118 is added to read as follows:

§ 165.T09-118 Security Zone; St. Mary's River and St. Mary's Falls Canal, Sault St. Marie, MI.

(a) Location. The following area is a security zone: beginning at a line drawn from 46° 29.94′ N, 084° 20′ W to 46° 30.21′ N, 084° 20′ W (these coordinates are on opposite sides of the St. Mary's River and east of the Sault Locks); proceeding in a westerly direction, encompassing all waters in the river along the St. Mary's River and St. Mary's Falls Canal past the Sault Locks, to a line drawn from 46°29.86′ N, 084° 23′ W to 46° 30.27′ N, 084° 23′ W (these coordinates are on opposite sides of the St. Mary's River, west of the Sault locks). These coordinates are based upon North American Datum 1983 (NAD 83).

(b) Effective dates. This section is effective from 1 p.m. October 11, 2001 until 1 p.m. June 15, 2002.

(c) Regulations. (1) In accordance with the general regulations in § 165.33 of this part, entry into this zone is prohibited unless authorized by the Coast Guard Captain of the Port, Sault Ste. Marie, Michigan. The general regulations of § 165.33 of this part apply.

(2) Persons desiring to transit the area of the security zone must first notify the Captain of the Port Sault Ste. Marie via the Vessel Traffic Service (VTS) at telephone number (906) 635-3232 or on VHF channel 12 (156.6 MHz) or VHF channel 14 (156.7 MHz) and receive permission to transit the area. Approval will be made on a case-by-case basis.

(3) All persons and vessels shall comply with the instructions of the Captain of the Port Sault Ste. Marie or the designated on-scene patrol personnel.

Dated: October 11, 2001.
C. S. Gordon,
Captain, U.S. Coast Guard, Captain of the Port Sault Ste. Marie, MI.

[FR Doc. 01-27053 Filed 10-25-01; 8:45 am]

BILLING CODE 4910-15-U